DEPARTMENT OF ENERGY

Federal Energy Regulatory Commission

Notice of Application for Surrender of License and Soliciting Comments, Motions To Intervene, and Protests

June 21, 2006.

Take notice that the following application has been filed with the Commission and is available for public inspection:

a. Application Type: Surrender of License.

b. Project No.: 2642-013.

c. Date Filed: April 3, 2006.

d. Applicant: Garkane Energy Cooperative, Inc.

e. Name of Project: Glen Canyon-Paria Transmission Line Project.

f. Location: The project is located in Kane County, Utah, and Coconino County, Arizona. The project occupies lands of the United States managed by the Bureau of Reclamation and the National Park Service.

g. Filed Pursuant to: Federal Power Act, 16 U.S.C. 791a—825r.

h. Applicant Contact: Mr. Mike Avant, Engineering Manager, Garkane Energy Cooperative, Inc., 1802 South 175 East, Kanab, Utah 84741, (435)644-5026, Fax (435)644-8120.

i. FERC Contact: Any questions on this notice should be addressed to Ms. Patricia W. Gillis at (202) 502-8735.

j. Deadline for filing comments, motions to intervene, and protests: 30 days from the issuance date of this notice.

k. Description of Request: In a July 13, 2000 order, the Commission made a finding that the subject transmission line is not required to be licensed. The Commission stated in that order that the license will remain in effect until its expiration date or until the license is surrendered. In the current proceeding, the licensee filed an application to surrender its transmission line license, and included in its filing information about obtained individual rights of way for the continued operation of the line.

l. Locations of the Application: A copy of the application is available for inspection and reproduction at the Commission's Public Reference Room, located at 888 First Street, NE., Room 2A, Washington, DC 20426, or by calling (202) 502-8371. Information about this filing may also be viewed on the Commission's website at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-10484 Filed 7-5-06; 8:45 am]

BILLING CODE 6717-01-P